NATIONAL AERONAUTICS AND SPACE ADMINISTRATION

[Notice 12-051]

NASA Advisory Council; Human Exploration and Operations Committee; Meeting

AGENCY: National Aeronautics and Space Administration.

ACTION: Notice of meeting.

SUMMARY: In accordance with the Federal Advisory Committee Act, Public Law 92-462, as amended, the National Aeronautics and Space Administration (NASA) announces a meeting of the Human Exploration and Operations Committee (HEO) of the NASA Advisory Council (NAC). This Committee reports to the NAC. The meeting will be held for the purpose of soliciting, from the scientific community and other persons, scientific and technical information relevant to program planning.

DATES: Monday, July 23, 2012, 9:30 a.m.-5:40 p.m., and Tuesday, July 24, 2012, 8:45 a.m.-2:00 p.m., Local Time.

ADDRESSES: NASA Goddard Space Flight Center (GSFC), Building 1, Room E100D, 8800 Greenbelt Road, Greenbelt, MD 20771.

FOR FURTHER INFORMATION CONTACT: Ms. Bette Siegel, Human Exploration and Operations Mission Directorate, NASA Headquarters, Washington, DC 20546, (202) 358-2245, fax (202) 358-2886, or bette.siegel@nasa.gov.

SUPPLEMENTARY INFORMATION: The meeting will be open to the public up to the capacity of the room. This meeting is also available telephonically and by WebEx. Any interested person may call the USA toll-free conference call number (877) 951-7311, pass code 9070300, to participate in this meeting by telephone. The WebEx link is https://nasa.webex.com/, the meeting number for both days, July 23 and July 24, is 390 981 454, and the password is July23+24. The agenda for the meeting includes the following topics:

—Status of the Human Exploration and Operations Mission Directorate

—Status of International Space Station

—Space Launch System/Orion

—Status of Center for the Advancement of Science in Space

—Joint Session with the NAC Science Committee on Mars Program Planning Group and Joint Robotic Precursor Activities

The Joint Session with the NAC Science Committee will take place on Monday, July 23, 2012, from 1:00 p.m. to 3:30 p.m., Local Time at NASA Goddard Space Flight Center (GSFC), Building 1, Room E100E, 8800 Greenbelt Road, Greenbelt, MD 20771. Any interested person may call the USA toll-free conference call number (800) 369-1786, pass code Science Committee, to participate in this meeting by telephone. The WebEx link is https://nasa.webex.com/, the meeting number is 990 388 822, and the password is SC@July23.

—Joint Session with the NAC Commercial Space Committee, and NAC Audit, Finance and Analysis Committee; on Commercial Orbital Transportation Services/Commercial Crew Development and an Overview of Contracting Options

The Joint Session with the NAC Commercial Space Committee, and NAC Audit, Finance and Analysis Committee, will take place on Tuesday, July 24, 2012, from 10:00 a.m. to 1:00 p.m., Local Time, in the same location.

It is imperative that the meeting be held on these dates to accommodate the scheduling priorities of the key participants. All attendees will be requested to sign a register and to comply with NASA security requirements. Visitors must show a valid State or Federal issued picture ID, green card, or passport, before receiving an access badge to enter into GSFC and must state that they are attending the NAC's Human Exploration and Operations Committee meeting in Building 1. All US citizens and green card holders desiring to attend must provide their full name, company affiliation (if applicable), and citizenship to Bette Siegel via email at bette.siegel@nasa.gov or by telephone at (202) 358-2245 no later than the close of business July 16, 2012. Foreign Nationals must provide following information: Full name, gender, date/place of birth, citizenship, home address, visa information (number, type, expiration date), passport information (number, country of issue, expiration date), employer/affiliation information (name of institution, title/position, address, country of employer, telephone, email address), and an electronically scanned or faxed copy of their passport and visa to Bette Siegel via email at bette.siegel@nasa.gov or by fax at (202) 358-2886 no later than close of business July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Patricia D. Rausch,
Advisory Committee Management Officer, National Aeronautics and Space Administration.

[FR Doc. 2012-15814 Filed 6-27-12; 8:45 am]

BILLING CODE 7510-13-P